DEPARTMENT OF THE INTERIOR

Notice of Availability of the Finding of No Significant Impact (FONSI) on the Final Environmental Assessment for the Diamond Fork System 2002 Proposed Action Modifications

AGENCY: Office of the Assistant Secretary—Water and Science, Department of the Interior.

ACTION: Notice of availability of the Finding of No Significant Impact (FONSI) on the Final Environmental Assessment for the Diamond Fork System 2002 Proposed Action Modifications.

SUMMARY: On March 29, 2002, Ronald Johnston, Program Director, Central Utah Project Completion Act Office, Department of the Interior (Interior), signed the Finding of No Significant Impact (FONSI) which documents the selection of the Proposed Action Modifications as presented in the Final Environmental Assessment for the Diamond Fork System 2002 Proposed Action Modifications (2002 Modifications EA). Interior has determined that implementing the modifications to the Proposed Action Alternative described in the 2002 Modifications EA will not have a significant impact on the quality of the human environment and that an environmental impact statement is not required.

The following features will be constructed as part of the modifications to the Proposed Action: (1) Sixth Water Connection; (2) Tanner Ridge Tunnel; (3) Upper Diamond Fork Pipeline; (4) Upper Diamond Fork Flow Control Structure; (5) Upper Diamond Fork Shafts; (6) Aeration Chamber and Connection to Upper Diamond Fork Tunnel; (7) Upper Diamond Fork Tunnel; and (8) Diamond Fork Flow Control Faciility.

The Proposed Action Modifications will be operated on an interim basis the same as described in the July 1999 Diamond Fork System Final Supplement to the Final Environmental Impact Statement, including the quantity and timing of minimum streamflows and the flexibility to other operational scenarios, except for the dischange location of the minimum streamflows into Diamond Fork Creek. The potential for generating hydroelectric power would remain the same as described in the FS-FEIS.

FOR FURTHER INFORMATION CONTACT: Additional information on matters related to this Federal Register notice can be obtained from Mr. Reed R. Murray, Deputy Program Director, CUP Completion Act Office, Department of the Interior, 302 East 1860 South, Provo UT 84606-6154, (801) 379-1237, murray@uc.usbr.gov.

Dated: March 29, 2002.
Ronald Johnston,
Program Director, Department of the Interior.

[FR Doc. 02-8640 Filed 4-9-02; 8:45 am]

BILLING CODE 4310-RK-M